DEPARTMENT OF THE TREASURY

Fiscal Service

Surety Companies Acceptable on Federal Bonds: Amendment—Employers Insurance Company of Wausau, Liberty Mutual Fire Insurance Company, Liberty Mutual Insurance Company, Peerless Insurance Company

AGENCY: Financial Management Service, Fiscal Service, Department of the Treasury.

ACTION: Notice.

SUMMARY: This is Supplement No. 4 to the Treasury Department Circular 570, 2009 Revision, published July 1, 2009, at 74 FR 31536.

FOR FURTHER INFORMATION CONTACT: Surety Bond Branch at (202) 874-6850.

SUPPLEMENTARY INFORMATION: The underwriting limitations for the following companies have been amended:

Employers Insurance Company of Wausau (NAIC # 21458), which was listed in the Treasury Department Circular 570, published on July 1, 2009, is hereby amended to read $75,367,000.

Liberty Mutual Fire Insurance Company (NAIC # 23035), which was listed in the Treasury Department Circular 570, published on July 1, 2009, is hereby amended to read $82,527,000.

Liberty Mutual Insurance Company (NAIC # 23043), which was listed in the Treasury Department Circular 570, published on July 1, 2009, is hereby amended to read $663,431,000.

Peerless Insurance Company (NAIC # 24198), which was listed in the Treasury Department Circular 570, published on July 1, 2009, is hereby amended to read $193,624,000.

Federal bond-approving officers should annotate their reference copies of the Treasury Department Circular 570 (“Circular”), 2009 Revision, to reflect this change.

The Circular may be viewed and downloaded through the Internet at http://www.fms.treas.gov/c570.

Questions concerning this notice may be directed to the U.S. Department of the Treasury, Financial Management Service, Financial Accounting and Services Division, Surety Bond Branch, 3700 East-West Highway, Room 6F01, Hyattsville, MD 20782.

Dated: October 15, 2009.
Laura Carrico,
Acting Director, Financial Accounting and Services Division.

[FR Doc. E9-25836 Filed 10-28-09; 8:45 am]

BILLING CODE 4810-35-M